Title 3—

The President

Proclamation 8113 of March 16, 2007

National Poison Prevention Week, 2007

By the President of the United States of America

A Proclamation

In the 45 years since the first National Poison Prevention Week was proclaimed by President John F. Kennedy, many lives have been saved from unintentional poisoning through awareness efforts across our country. This week, we reaffirm our commitment to the safety of our fellow citizens and to guarding against accidental poisonings.

Protecting our children is a solemn and special responsibility, and we must all continue to work to reduce the number of poison-related injuries and deaths. I encourage parents to make homes safer by keeping toxic substances sealed and out of reach and by carefully reading the labels on medicines before giving them to children and on household products before using them around children. In addition, carbon monoxide alarms can help protect against carbon monoxide poisoning, which claims the lives of hundreds of Americans each year.

If a poisoning is suspected, citizens can reach their nearest Poison Control Center 24 hours a day, 7 days a week, by calling 1-800-222-1222. This number should be called immediately at the first sign of a suspected poison emergency. The Poison Prevention Week Council website, poisonprevention.org, can provide additional information about poison prevention. By staying informed, being proactive, and remaining vigilant, we can avoid poison exposure and save more lives.

To encourage Americans to learn more about the dangers of accidental poisonings and take appropriate preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 18 through March 24, 2007, as National Poison Prevention Week. I call upon all Americans to participate in appropriate activities this week and to learn how to prevent poisonings, especially among children.

IN WITNESS WHEREOF, I have hereunto set my hand this sixteenth day of March, in the year of our Lord two thousand seven, and of the Independence of the United States of America the two hundred and thirty-first.

[FR Doc. 07-1413

Filed 3-20-07; 8:45 am]

Billing code 3195-01-P